DEPARTMENT OF COMMERCE

Foreign-Trade Zones Board

[S-149-2019]

Foreign-Trade Zone 22—Chicago, Illinois; Application for Subzone Expansion; Abbott Laboratories, Elk Grove Village, Illinois

An application has been submitted to the Foreign-Trade Zones Board (the Board) by the Illinois International Port District, grantee of FTZ 22, requesting an expansion of Subzone 22F on behalf of Abbott Laboratories (Abbott), located in Elk Grove Village, Illinois. The application was submitted pursuant to the provisions of the Foreign-Trade Zones Act, as amended (19 U.S.C. 81a-81u), and the regulations of the Board (15 CFR part 400). It was formally docketed on July 29, 2019.

Subzone 22F currently consists of the following sites: Site 2 (480 acres) One Abbott Park Road, North Chicago; Site 3 (129 acres) Atkinson Road, North Chicago; Site 4 (42 acres) 22nd Street, North Chicago; Site 5 (17 acres) 1300 East Touhy, Des Plaines; and, Site 7 (0.7 acres) 800 Brummel Avenue, Elk Grove Village.

The proposed expansion would include an additional 0.7 acres within existing Site 7 of the subzone. No authorization for expanded production activity has been requested at this time. The subzone will be subject to the existing activation limit of FTZ 22.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is September 11, 2019. Rebuttal comments in response to material submitted during the foregoing period may be submitted during the subsequent 15-day period to September 26, 2019.

A copy of the application will be available for public inspection in the “Reading Room” section of the Board's website, which is accessible via www.trade.gov/ftz.

For further information, contact Elizabeth Whiteman at Elizabeth.Whiteman@trade.gov or (202) 482-0473.

Dated: July 29, 2019.
Elizabeth Whiteman,
Acting Executive Secretary.

[FR Doc. 2019-16553 Filed 8-1-19; 8:45 am]

BILLING CODE 3510-DS-P